DEPARTMENT OF HEALTH AND HUMAN SERVICES

Centers for Disease Control and Prevention

National Task Force on Fetal Alcohol Syndrome and Fetal Alcohol Effect: Meeting

In accordance with section 10(a)(2) of the Federal Advisory Committee Act (Pub. L. 92-463), the Centers for Disease Control and Prevention (CDC), National Center on Birth Defects and Developmental Disabilities (NCBDDD) announces the following meeting.

Name: National Task Force on Fetal Alcohol Syndrome and Fetal Alcohol Effect (NTFFASFAE).

Times and Dates: September 26, 2006, 8:30 a.m.-4:30 p.m.; September 27, 2006, 8:30 a.m.-1 p.m.

Place: Doubletree Atlanta Buckhead, 3342 Peachtree Road, NE., Atlanta, Georgia 30326, telephone 404 231-1234, fax 404 231-3112.

Status: Open to the public, limited only by the space available. The meeting room accommodates approximately 80 people.

Purpose: The Secretary is authorized by the Public Health Service Act, Section 399G, (42 U.S.C. Section 280f, as added by Public Law 105-392) to establish a National Task Force on Fetal Alcohol Syndrome (FAS) and Fetal Alcohol Effect (FAE) to: (1) Foster coordination among all governmental agencies, academic bodies and community groups that conduct or support FAS and FAE research, programs and surveillance; and (2) to otherwise meet the general needs of populations actually or potentially impacted by FAS and FAE.

Matters to be Discussed: Agenda items include: Overview of recent research on innovative approaches to help in identification and diagnosis of FAS and other alcohol-related neurodevelopmental disorders, update on Task Force report of evidence-based review of fetal alcohol spectrum disorders prevention strategies; updates from the Interagency Coordinating Committee on Fetal Alcohol Syndrome, the CDC and other Federal agencies, and liaison representatives; and scheduling of the next meeting. Agenda items are subject to change as priorities dictate.

For Further Information Contact: Mary Kate Weber, M.P.H., Designated Federal Official, National Center on Birth Defects and Developmental Disabilities, CDC, 1600 Clifton Road, NE., (E-86), Atlanta, Georgia 30333, telephone 404 498-3926, fax 404 498-3550.

The Director, Management Analysis and Services Office, has been delegated the authority to sign Federal Register notices pertaining to announcements of meetings and other committee management activities, for both CDC and the Agency for Toxic Substances and Disease Registry.

Dated: August 28, 2006.
Alvin Hall,
Director, Management Analysis and Services Office, Centers for Disease Control and Prevention.

[FR Doc. E6-14556 Filed 8-31-06; 8:45 am]

BILLING CODE 4163-18-P